NATIONAL SCIENCE FOUNDATION

Proposal Review Panel for Physics; Notice of Meeting

In accordance with the Federal Advisory Committee Act (Pub. L. 92-463, as amended), the National Science Foundation (NSF) announces the following meetings:

Name and Committee Code: Proposal Review Panel for Division of Physics (1208)—Institute for Quantum Information and Matter (IQIM).

Date and Time: November 18, 2020 10:00 a.m.-6:00 p.m., November 19, 2020 10:00 a.m.-5:00 p.m., November 20, 2020 10:00 a.m.-2:00 p.m.

Place: NSF, 2415 Eisenhower Avenue, Alexandria, VA 22314 (Virtual).

Type of Meeting: Part-open.

Contact Persons: James Shank, Program Director for Physics Frontier Centers, Division of Physics, National Science Foundation, 2415 Eisenhower Avenue, Room W9214, Alexandria, VA 22314; Telephone: (703) 292-4516.

Purpose of Meeting: Virtual site visit to provide an evaluation of the progress of the projects at the host site for the Division of Physics at the National Science Foundation.

Agenda

November 18, 2020; 10:00 a.m.-06:00 p.m.

10:00 a.m.-12:00 p.m.

Directors Overview & Science Talks—Session 1

12:00 p.m.-01:00 p.m.

Lunch

01:00 p.m.-04:00 p.m.

Science Talks—Session 2

04:00 p.m.-05:00 p.m.

Executive Session—CLOSED

05:00 p.m.-06:00 p.m.

Poster Session

November 19, 2020; 10:00 a.m.-05:00 p.m.

10:00 a.m.-12:00 p.m.

Education/Outreach/Diversity (need more than 1 hour)

12:00 p.m.-01:00 p.m.

Lunch

01:00 p.m.-02:00 p.m.

University Administrators

02:00 p.m.-03:00 p.m.

Directors Conclusion and Plans for Coming Year

03:00 p.m.-04:30 p.m.

Executive Session—CLOSED

04:30 p.m.-05:00 p.m.

Questions delivered to PIs

November 20, 2020; 10:00 a.m.-2:00 p.m.

10:00 a.m.-11:00 a.m.

Responses to Questions

11:00 a.m.-02:00 p.m.

Panel Discussion of Report

Reason for Closing: Topics to be discussed and evaluated during closed portions of the site review will include information of a proprietary or confidential nature, including technical information and information on personnel. These matters are exempt under 5 U.S.C. 552b(c), (4) and (6) of the Government in the Sunshine Act.

Dated: October 16, 2020.
Crystal Robinson,
Committee Management Officer.

[FR Doc. 2020-23281 Filed 10-20-20; 8:45 am]

BILLING CODE 7555-01-P